DEPARTMENT OF JUSTICE

Antitrust Division

Notice Pursuant to the National Cooperative Research and Production Act of 1993—Nanotechnology Enterprise Consortium

Notice is hereby given that, on April 1, 2010, pursuant to Section 6(a) of the National Cooperative Research and Production Act of 1993, 15 U.S.C. 4301 et seq. (“the Act”), the NanoTechnology Enterprise Consortium (“NTEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Nanotechnology Enterprise, Inc. Columbia, MO; The Boeing Company, Chicago, IL; CertTech, LLC, Overland Park, KS; DefEar Systems, LLC, Salem, MO; EaglePitcher Technologies, LLC, Joplin, MO; Nanos Technologies, LLC, Columbia, MO; Nanoparticle BioChem, Inc., Columbia, MO; NEMS/MEMS Works, LLC, Chesterfiels, MO; ThermAvant Technolgies, LLC, Columbia, MO; University of Missouri-Columbia, Columbia, MO; and University of Missouri-St. Louis, St. Louis, MO. The general area of NTEC'S planned activity is to help small, medium, and large member companies, university researchers, and government and private funders to collaborate on applying nanotechnology to create innovation products for commercial and military use, including the defense, biomedical, energy, and agriculture sectors.

Patricia A. Brink,
Deputy Director of Operations, Antitrust Division.

[FR Doc. 2010-10449 Filed 5-5-10; 8:45 am]

BILLING CODE 4410-11-M